DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Substance Abuse Prevention and Treatment (SAPT) Block Grant Application Guidance and Instructions, FY 2002-2004 (OMB No. 0930-0080, Revision)

Sections 1921 through 1935 of the Public Health Service Act (U.S.C. 300x-21 to 300x-35) provide for annual allotments to assist States to plan, carry out, and evaluate activities to prevent and treat substance abuse and for related activities. Under the provisions of the law, States may receive allotments only after an application is submitted and approved by the Secretary, DHHS. For the federal fiscal year 2002-2004 SAPT block grant application cycles, the Substance Abuse and Mental Health Services Administration (SAMHSA) will provide States with revised application guidance and instructions to implement changes made by Public Law 106-310, signed by the President on October 17. Revisions to the previously-approved application resulting from the new SAMHSA authorizing legislation reflect the following changes: (1) Section 1922(a) under which States were required to use 35% of the funds on drug related activities and 35% on alcohol related activities (42 U.S.C. 300x-22) is repealed. (2) The Section 1925 requirement for the States to maintain a revolving fund of $100,000 to assist with half way houses for persons recovering from drug or alcohol abuse is now made optional (42 U.S.C. 300x-25). (3) Section 1930, which requires the States to maintain their financial support for substance abuse services at a level equal to the average of what they had spent the previous two years, is amended to permit non-recurring expenditures for a singular purpose to be excluded from the calculation of the Maintenance of Effort (MOE) requirement (42 U.S.C. 300x-30). (4) Section 1952 is amended to allow any amount paid to a State for a fiscal year to be available for obligation and expenditure until the end of the fiscal year following the fiscal year for which the amounts were paid, in effect giving a State two years to obligate and spend (42 U.S.C. 300x-62).

In addition, changes are being made to the annual reporting requirements associated with Section 1926 (42 U.S.C. 300x-26), which requires States to have in effect a law prohibiting access and distribution of tobacco products to minors under age 18. In Section II, the following changes are being made with respect to Goal #8 and Attachment G: (1) In Goal #8, States will not be required to report on activities that were reported in previous applications (i.e., the requirement to report on prior year compliance information is eliminated). (2) In Attachment G: (a) questions are re-ordered so they are in chronological order to facilitate reporting on compliance activities; (b) seven of the nine questions are revised to define more precisely the information that SAMHSA needs in order to review and approve applications and eliminate duplication in State reporting; (c) Matrix 7a has been renamed Form G3, and Form G3 now requires States to report specific ages of the youth inspectors rather than age ranges.

Annual Reporting Burden
| Number of respondents | Responses per respondent | Hours per response | Total burden
Sections I-III—Red Lake Indians | ¹ 1 | 1 | 530 | 530
Sections I-III—States and Territories | 59 | 1 | 563 | 33,217
Section IV-A | 40 | 1 | 50 | 2,000
Section IV-B | 20 | 1 | 42 | 840
Total |  |  |  | 36,587
¹ Red Lake Indian Tribe is not subject to tobacco requirements.

Written comments and recommendations concerning the proposed information collection should be sent within 30 days of this notice to: Stuart Shapiro, Human Resources and Housing Branch, Office of Management and Budget, New Executive Office Building, Room 10235, Washington, D.C. 20503.

Dated: May 1, 2001.
Richard Kopanda,
Executive Officer, SAMHSA.

[FR Doc. 01-11512 Filed 5-7-01; 8:45 am]

BILLING CODE 4162-20-P